DEPARTMENT OF COMMERCE

National Oceanic and Atmospheric Administration

50 CFR Part 679

[Docket No. 141021887-5172-02]

RIN 0648-XE429

Fisheries of the Exclusive Economic Zone Off Alaska; Directed Fishing With Trawl Gear by Fisheries Act Catcher Processors in Bycatch Limitation Zone 1 of the Bering Sea and Aleutian Islands Management Area

AGENCY: National Marine Fisheries Service (NMFS), National Oceanic and Atmospheric Administration (NOAA), Commerce.

ACTION: Temporary rule; closure.

SUMMARY: NMFS is prohibiting directed fishing with trawl gear, other than pelagic trawl gear for walleye pollock, by American Fisheries Act (AFA) trawl catcher processors in Bycatch Limitation Zone 1 of the Bering Sea and Aleutian Islands management area (BSAI). This action is necessary to prevent exceeding the sideboard limit of the 2016 bycatch allowance of red king crab in Zone 1 specified for AFA trawl catcher processors in the BSAI.

DATES: Effective 1200 hrs, Alaska local time (A.l.t.), February 3, 2016, though 2400 hrs, A.l.t., December 31, 2016.

FOR FURTHER INFORMATION CONTACT: Steve Whitney, 907-586-7269.

SUPPLEMENTARY INFORMATION: NMFS manages the groundfish fishery in the BSAI exclusive economic zone according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The sideboard limit of the 2016 bycatch allowance of red king crab in Zone 1 specified for the AFA trawl catcher processors in the BSAI is 606 crab as established by the final 2015 and 2016 harvest specifications for groundfish in the BSAI (80 FR 11919, March 5, 2015).

In accordance with § 679.64(a)(2) and (3), the Administrator, Alaska Region, NMFS (Regional Administrator), has determined that the sideboard limit of red king crab in Zone 1 specified for the AFA catcher processors in the BSAI will be caught. Therefore, NMFS is prohibiting directed fishing with trawl gear in Zone 1, other than pelagic trawl gear for walleye pollock, by AFA trawl catcher processors in the BSAI.

Classification

This action responds to the best available information recently obtained from the fishery. The Assistant Administrator for Fisheries, NOAA, (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the closure of directed fishing with trawl gear, other than pelagic trawl gear for walleye pollock, by AFA trawl catcher processors in Zone 1 of the BSAI. NMFS was unable to publish a notification providing time for public comment because the most recent, relevant data only became available as of February 1, 2016.

The AA also finds good cause to waive the 30-day delay in the effective date of this action under 5 U.S.C. 553(d)(3). This finding is based upon the reasons provided above for waiver of prior notice and opportunity for public comment.

This action is required by § 679.21 and is exempt from review under Executive Order 12866.

Authority: 16 U.S.C. 1801 et seq.

Dated: February 3, 2016.
Emily H. Menashes,
Acting Director, Office of Sustainable Fisheries, National Marine Fisheries Service.

[FR Doc. 2016-02391 Filed 2-3-16; 4:15 pm]

BILLING CODE 3510-22-P